DEPARTMENT OF TRANSPORTATION

Federal Railroad Administration

[Docket Number FRA-2019-0003]

Petition for Extension of Waiver of Compliance

Under part 211 of title 49 Code of Federal Regulations (CFR), this document provides the public notice that on January 12, 2022, Canadian National Railway Company (CN) petitioned the Federal Railroad Administration (FRA) for an extension of a waiver of compliance from certain provisions of the Federal railroad safety regulations contained at 49 CFR 232.305, Single car air brake tests. The relevant FRA Docket Number is FRA-2019-0003.

Specifically, CN requests to extend relief from § 232.305(b)(2), regarding the requirement to conduct a single car air brake test (SCT) on a car when it is placed on a repair track for any reason, and the car has not had a SCT in the previous 12 months. CN explains that it seeks to continue using this relief for the in-train wheelset replacement program in Fulton, KY, a purpose-built facility that utilizes a drop table to safely and efficiently replace defective wheelsets while keeping the train intact. The program identifies and replaces wheelsets with minor defects falling between Association of American Railroads standards and FRA requirements, which assists in reducing the number of wheel, bearing, impact, and broken rail-caused derailments, as well as associated injuries.

CN states that it has complied with the requirements of FRA's approval letter, dated June 14, 2019, and successfully changed out 4,454 wheels from the date of approval until December 23, 2021. CN reports no injuries or accidents due to the operation of the facility.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted at http://www.regulations.gov. Follow the online instructions for submitting comments.

Communications received by April 25, 2022 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2022-05038 Filed 3-9-22; 8:45 am]

BILLING CODE 4910-06-P